DEPARTMENT OF HOMELAND SECURITY

Coast Guard

[CGD13-05-025]

Implementation of Sector Portland, Oregon

AGENCY: Coast Guard, DHS.

ACTION: Notice of organizational change.

SUMMARY: The Coast Guard announces the stand-up of Sector Portland, Oregon. Sector Portland is an internal reorganization that combines Group Portland and Marine Safety Office Portland into a single command. The Coast Guard has established a continuity of operations whereby all previous practices and procedures will remain in effect until superseded by an authorized Coast Guard official or document.

DATES: This notice is effective July 1, 2005.

ADDRESSES: Documents indicated in this preamble as being available in the docket are part of docket CGD13-05-025 and are available for inspection or copying at Commander (r), Thirteenth Coast Guard District, 915 Second Avenue, Room 3492, Seattle, Washington, 98174-1067 between 8 a.m. and 4 p.m., Monday through Friday, except Federal holidays.

FOR FURTHER INFORMATION CONTACT: Lieutenant Commander Geoffrey Trivers, Thirteenth District Resources Division at 206-220-7041.

SUPPLEMENTARY INFORMATION:

Discussion of Notice

Sector Portland is located at 6767 N. Basin Avenue, Portland, OR 97217 and contains a single Command Center. Sector Portland is composed of a Response Department, Prevention Department, and Logistics Department. Effective July 1, 2005, all existing missions and functions performed by Group Portland and Marine Safety Office Portland will be performed by Sector Portland. Group Portland and Marine Safety Office Portland will no longer exist as organizational entities.

Sector Portland is responsible for all Coast Guard missions in the following zone: the boundary of Sector Portland, Oregon starts at 46°55′00″ N. latitude,123°18′00″ W. longitude and proceeds easterly along 46°55′00″ N. latitude to the eastern Idaho State line; thence southerly along the Idaho-Wyoming boundary to the intersection of the Idaho-Utah-Wyoming boundaries; thence westerly along 42°00′00″ N. latitude to a point 42°00′00″ N. latitude,123°18′00″ W. longitude; thence northerly along 123°18′00″ W. longitude to the point of origin.

There are no changes to the Portland, Oregon Marine Inspection Zone and Portland, Oregon Captain of the Port Zone, which encompasses the combined areas of responsibility of Sector Portland, Sector/Air Station Astoria, and Sector/Air Station North Bend. The Portland, Oregon Marine Inspection Zone and Portland, Oregon Captain of the Port Zone are delineated in 33 CFR 3.65-15.

The Sector Portland Commander is vested with all the rights, responsibilities, duties, and authority of a Group Commander and Commanding Officer, Marine Safety Office, as provided for in Coast Guard regulations, and is the successor in command to the Commanding Officers of Group Portland and Marine Safety Office Portland. The Sector Portland Commander is designated: (a) Captain of the Port (COTP) for the Portland, Oregon COTP zone; (b) Federal Maritime Security Coordinator (FMSC) for the Portland, Oregon COTP zone; (c) Federal On Scene Coordinator (FOSC) for the Portland, Oregon COTP zone, consistent with the National Contingency Plan; (d) Officer in Charge of Marine Inspection (OCMI) for the Portland, Oregon Marine Inspection Zone; and (e) Search and Rescue Mission Coordinator (SMC) for the smaller Sector Portland area of responsibility, which is described above. The Deputy Sector Commander is designated alternate COTP, FMSC, FOSC, SMC, and Acting OCMI. A continuity of operations order has been issued ensuring that all previous Group Portland and Marine Safety Office Portland practices and procedures will remain in effect until superseded by Commander, Sector Portland. This continuity of operations order addresses existing COTP regulations, orders, directives, and policies.

The following information is a list of updated command titles, addresses and points of contact to facilitate requests from the public and assist with entry into security or safety zones:

Name: Sector Portland.

Address: Commander, U.S. Coast Guard Sector Portland, 6767 N. Basin Avenue, Portland, OR 97217

Contact: General Number, (503) 240-9314; Sector Commander: Captain Paul D. Jewell; Deputy Sector Commander: Commander Daniel T. Pippenger

Chief, Prevention Department: (503) 240-9316;

Chief, Response Department: (503) 240-9317;

Chief, Logistics Department: (503) 240-9330;

Contingency Planning & Force Readiness Staff: (503) 247-4014

Sector Command Center: (503) 240-9324.

Dated: June 28, 2005.
J. M. Garrett,
Rear Admiral, U.S. Coast Guard, Commander, Thirteenth Coast Guard District,

[FR Doc. 05-14634 Filed 7-25-05; 8:45 am]

BILLING CODE 4910-15-P